DEPARTMENT OF HEALTH AND HUMAN SERVICES

National Institutes of Health

Government-Owned Inventions; Availability for Licensing

AGENCY: National Institutes of Health, Public Health Service, DHHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: (301) 496-7057; fax: (301) 402-0220. A signed Confidential Disclosure Agreement will be required to receive copies of the patent applications.

Treatment of Human Viral Infections (Resveratrol)

Drs. Steven Zeichner and Vyjayanthi Krishnan (NCI).

U.S. Provisional Application No. 60/588,013 filed 13 Jul 2004 (DHHS Reference No. E-279-2004/0-US-01).

Licensing Contact: Sally Hu; 301/435-5606; hus@mail.nih.gov.

This application describes the methods for treating or preventing an HIV infection by the administration of an Egr 1 activator called Resveratrol (3, 5, 4″-trihydroxystilbene) and its derivatives. It has been known that HIV, once it infects a cell, integrates into the cellular genome and can (1) rapidly undergo lytic infection, or (2) lay dormant for a period of time (latent infection). The existence of latent infected cells poses a great challenge to HIV therapy because (1) there are no good existing means that can separate the latent infected cells from the uninfected cells; (2) even when antiretroviral drugs are able to completely suppress detectable HIV replication, these latent infected cells will remain and HIV can subsequently complete the viral replication cycle to produce more virus. Since Resveratrol and its derivatives can activate lytic replication from latent infected cells via its effects on Erk1/2 signaling, Resveratrol and its derivatives may lead to therapies in which Resveratrol and/or its derivatives is given together with highly active antiretroviral therapy in an effort to decrease or eliminate the reservoir of latent infected cells with hope of perhaps eventually curing a patient of HIV infection.

Treatment of Human Viral Infections (Proteosome Inhibitors)

Drs. Steven Zeichner and Vyjayanthi Krishnan (NCI).

U.S. Provisional Application No. 60/587,810 filed 13 Jul 2004 (DHHS Reference No. E-280-2004/0-US-01).

Licensing Contact: Sally Hu; 301/435-5606; hus@mail.nih.gov.

This application describes the methods for treating or preventing an HIV infection by the administration of proteosome inhibitors and their derivatives. It has been known that HIV, once it infects a cell, integrates into the cellular genome and can (1) rapidly undergo lytic infection, or (2) lay dormant for a period of time (latent infection). The existence of latent infected cells poses a great challenge to HIV therapy because (1) there are no good existing means that can separate the latent infected cells from the uninfected cells; (2) even when antiretroviral drugs are able to completely suppress detectable HIV replication, these latent infected cells will remain and HIV can subsequently complete the viral replication cycle to produce more virus. Since proteosome inhibitors can activate lytic replication from latent infected cells, proteosome inhibitors may lead to therapies in which proteosome inhibitors are given together with highly active antiretroviral therapy in an effort to decrease or eliminate the reservoir of latent infected cells with hope of perhaps eventually curing a patient of HIV infection.

Treatment of Human Viral Infections (Imatinib)

Drs. Steven Zeichner and Vyjayanthi Krishnan (NCI).

U.S. Provisional Application No. 60/588,015 filed 13 Jul 2004 (DHHS Reference No. E-281-2004/0-US-01).

Licensing Contact: Sally Hu; 301/435-5606; hus@mail.nih.gov.

This application describes the methods for treating or preventing a HIV infection by the administration of abl-kinase inhibitor called imatinib and its derivatives. Several available agents can inhibit HIV replication by targeting one or another viral protein, such as the viral reverse transcriptase, protease, envelope fusion process, or integrase, or by targeting the interaction of a viral component with a host cell component, for example the host cell viral receptor or co-receptor. However, HIV can readily become resistant to these drugs, and new therapeutic approaches for HIV infection are needed. The studies described in the application show that the expression of many host cell genes changes in response to HIV replication, and show that targeting one of these changes with imatinib can inhibit viral replication. Thus targeting the host cell, and making the host cell less hospitable to the virus can inhibit viral replication. The application thus describes a new agent that inhibits viral replication by acting on the host cell, which may offer new approaches to therapy for HIV infection. These approaches may be less likely to engender rapid resistance in the virus to the therapy.

Treatment of Human Viral Infections (Farnesyl Transferase Inhibitors)

Drs. Steven Zeichner and Vyjayanthi Krishnan (NCI).

U.S. Provisional Application No. 60/587,771 filed 13 Jul 2004 (DHHS Reference No. E-282-2004/0-US-01).

Licensing Contact: Sally Hu; 301/435-5606; hus@mail.nih.gov.

This application describes the methods for treating or preventing an HIV infection by the administration of farnesyl transferase inhibitors such as FTI277, L-744832, BMS214662, R115777 and SCH66336. It has been known that HIV, once it infects a cell, integrates into the cellular genome and can (1) rapidly undergo lytic infection, or (2) lay dormant for a period of time (latent infection). The existence of latent infected cells poses a great challenge to HIV therapy because (1) there are no good existing means that can separate the latent infected cells from the uninfected cells; (2) even when antiretroviral drugs are able to completely suppress detectable HIV replication, these latent infected cells will remain and HIV can subsequently complete the viral replication cycle to produce more virus. Since farnesyl transferase inhibitors can activate lytic replication from latent infected cells by modulating membrane-bound Ras-Rho levels, farnesyl transferase inhibitors may lead to therapies in which farnesyl transferase inhibitor is given together with highly active antiretroviral therapy in an effort to decrease or eliminate the reservoir of latent infected cells with hope of perhaps eventually curing a patient of HIV infection.

Dated: May 17, 2005.
Steven M. Ferguson,
Director, Division of Technology Development and Transfer, Office of Technology Transfer, National Institutes of Health.

[FR Doc. 05-10316 Filed 5-23-05; 8:45 am]

BILLING CODE 4140-01-P